DEPARTMENT OF COMMERCE

National Oceanic and Atmospheric Administration

[RTID 0648-XB863]

Adjustment of Fees for Seafood Inspection Services

AGENCY: National Marine Fisheries Service (NMFS), National Oceanic and Atmospheric Administration (NOAA), Commerce.

ACTION: Notice of a revised fee schedule for seafood inspection services.

SUMMARY: The NMFS Seafood Inspection Program is notifying program participants of a revised fee schedule.

DATES: The revised fee schedule applies to services rendered as of April 1, 2022, until notified otherwise.

FOR FURTHER INFORMATION CONTACT: Steven Wilson, Office of International Affairs and Seafood Inspection, 301-427-8350 or at steven.wilson@noaa.gov.

SUPPLEMENTARY INFORMATION: The National Marine Fisheries Service (NMFS) operates a fee-for-service seafood inspection program (Program) under the authorities of the Agricultural Marketing Act of 1946, as amended, the Fish and Wildlife Act of 1956, and the Reorganization Plan No. 4 of 1970. The regulations implementing the Program are contained in 50 CFR parts 260 and 261. The Program offers inspection, grading, and certification services, including the use of official quality grade marks which indicate that specific products have been Federally inspected. Those wishing to participate in the program must request the services and submit specific compliance information. Since 1992, NMFS has offered inspection services based on guidelines recommended by the National Academy of Sciences, known as Hazard Analysis Critical Control Point (HACCP).

Under the implementing regulations for the Program, fees are reviewed at least annually to ascertain that the hourly fees charged are adequate to recover the costs of the services rendered. Any necessary adjustments to fees are made in accordance with the requirements of 50 CFR 260.81 and are notified to program participants as stipulated at 50 CFR 260.70. This Federal Register notice serves to inform program participants of an adjusted fee schedule, which applies to services rendered as of April 1, 2022, until notified otherwise.

NMFS will adjust its fees as outlined in this notice, which will apply until notified otherwise. Fees will be charged to contract and non-contract customers requesting services as listed below. The cost of other applicable services rendered will be recovered through fee collection using the base rate of $164 per hour.

NMFS will continue to monitor revenues and expenses and will use adaptive adjustments to react to changing levels of demand and expenses. NMFS expects to announce additional changes to fees within the next year to recover the cost of the Program as nearly as possible. Additional fee increases may need to occur regularly to promote full cost recovery and to ensure the level and structure of reasonable fees are consistent with the cost of the services rendered and in accordance with accounting requirements.

Revised Fees and Charges for the U.S. Department of Commerce (USDC) Seafood Inspection Program

Effective April 1, 2022, per hour fees and charges for fishery products inspection services will be as follows. The base contract and non-contract rates will increase by 15 percent from the current established rate and will apply until notified otherwise. The rate for certificate requests will remain at the established rate in effect as of June 2021. The rate for HACCP/Quality Management Program (QMP) contract services will decrease by 12 percent based on current estimates of the direct cost of delivering the services.

Contract Rates

Regular time: Services provided during any 8-hour shift.

Overtime: Services provided outside the inspector's normal work schedule.

In addition to any hourly service charge, a night differential fee equal to 10 percent of the employee's hourly salary will be charged for each hour of service provided after 6:00 p.m. and before 6:00 a.m. A guarantee of payment is required for all contracts equal to three months of service or $10,000, whichever is greater.

Non-Contract Rates

Regular time: Services provided within the inspector's normal work schedule, Monday through Friday.

Overtime: Services provided outside the inspector's normal work schedule.

Any services under contract in excess of the contracted hours will be charged at the non-contract rate.

Contract Rates

Non-HACCP Contracts

Regular Time: $164.00

Overtime: $246.00

Sunday & Holidays: $328.00

HACCP/QMP Contracts

HACCP Regular: $271.00

HACCP Overtime: $407.00

HACCP Sunday & Holidays: $542.00

All Non-Contract Work Rates

Regular Time: $248.00

Overtime: $372.00

Sunday & Holidays: $496.00

Certificates

All certificate requests, whether or not a product inspection was conducted, will be billed at a set flat rate of $99 per request.

Additional information about, and applications for, Program services and fees may be obtained from NMFS (see FOR FURTHER INFORMATION CONTACT).

Dated: February 25, 2022.
Alexa Cole,
Director, Office of International Affairs and Seafood Inspection, National Marine Fisheries Service.

[FR Doc. 2022-04419 Filed 3-1-22; 8:45 am]

BILLING CODE 3510-22-P